DEPARTMENT OF HEALTH AND HUMAN SERVICES

Centers for Disease Control and Prevention

[60Day-24-24FY; Docket No. CDC-2024-0046]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Lung Function Screening of Construction Workers with Exposure to Dusts and Chemicals. The goal of the proposed study is to determine if small airway dysfunction or early-stage disease can consistently be identified in high-risk workers with normal spirometry.

DATES: CDC must receive written comments on or before August 5, 2024.

ADDRESSES: You may submit comments, identified by Docket No. CDC-2024-0046 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Lung Function Screening in Construction Workers Exposed to Dusts and Chemicals—New—National Institute for Occupational Safety and Health (NIOSH), Centers for Disease Control and Prevention (CDC).

Background and Brief Description

Construction workers are routinely exposed to a number of inhaled toxins known to contribute to the development of chronic respiratory disease. A 2010 industry study suggested that over 50% of construction workers reported occupational exposure to vapors, gases, dusts, and fumes (VGDF) at least twice a week and that nearly 18% of ever-employed construction industry workers have abnormal lung function. In fact, construction workers are approximately 1.64 times more likely to have airway obstruction than other working groups within the U.S. trades.

An emerging lung function test procedure called impulse oscillometry (IOS) is more sensitive than spirometry, the standard test for monitoring worker pulmonary function. IOS can identify small airway functional status with the potential to identify those with often reversible abnormalities within the small airways (<2mm diameter). Thus, the goal of the proposed study is to determine if small airway dysfunction or early-stage disease can consistently be identified by IOS in high-risk workers with normal spirometry.

Two construction worker groups will be enrolled: (1) those at risk for respirable silica exposure (i.e., blockmasons or bricklayers); and (2) workers with occupational exposure to welding fumes and metals (i.e., welders). NIOSH researchers will collect questionnaire information pertaining to respiratory symptomology, smoking history, job-type tenure, worksite mitigation strategies, and personal protective equipment use. Height, weight, blood pressure and lung function testing measures will also be performed. The amount of personal identifiable information collected will be limited, but it is necessary to collect each worker's age, month and year of birth, sex assigned at birth, race/ethnicity, and smoking history to evaluate lung function test results. Additional medical data will be collected to reduce the risk of adverse effects or transmission of infectious disease to subjects performing lung function.

CDC requests a two-year OMB approval for an estimate 83 annual burden hours. There is no cost to respondents other than their time to participate.

Estimated Annualized Burden Hours
Type of respondents | Form name | Number of respondents | Number of responses per respondent | Average burden per response (in hours) | Total burden (in hours)
Eligible Study Participants | Informed Consent | 75 | 1 | 20/60 | 25
Study Participants | Height, Weight, and Demographics | 75 | 1 | 10/60 | 13
Study Participants | Study Questionnaire | 75 | 1 | 10/60 | 13
Spirometry Lung Function Test Results | Spirometry Test Report | 75 | 1 | 15/60 | 19
Impulse Oscillometry Test Results | Oscillometry Test Report | 75 | 1 | 10/60 | 13
Total |  |  |  |  | 83

Jeffrey M. Zirger,
Lead, Information Collection Review Office, Office of Public Health Ethics and Regulations, Office of Science, Centers for Disease Control and Prevention.

[FR Doc. 2024-12232 Filed 6-3-24; 8:45 am]

BILLING CODE 4163-18-P